DEPARTMENT OF COMMERCE

Census Bureau

15 CFR Part 30

[Docket Number: 220928-0202]

RIN 0607-XC066

Foreign Trade Regulations (FTR): Cancellation of the Advanced Export Information (AEI) Pilot Program

AGENCY: Census Bureau, Department of Commerce.

ACTION: Announcement for the cancellation of the Advanced Export Information (AEI) pilot program.

SUMMARY: In a Solicitation of Pilot Program Participants in the Federal Register on January 31, 2014, the Census Bureau announced the implementation of the Advanced Export Information (AEI) pilot program to evaluate a new filing option in the Automated Export System and solicited AEI pilot program participants. The AEI pilot program filing option allowed participating exporters to submit a limited set of Electronic Export Information (EEI) in accordance with existing filing deadlines, followed by the full set of data elements submitted within five calendar days of the date of export. This notification announces that the Census Bureau, in cooperation with the U.S. Customs and Border Protection (CBP), has decided to cancel the AEI pilot program. This decision to eliminate the AEI pilot program as an AES filing option was made because the Census Bureau was unable to conduct sufficient analysis and evaluation of the pilot program due to a lack of adequate participation.

DATES: The Census Bureau cancels the Advanced Export Information (AEI) pilot program that was announced in a Solicitation of Pilot Program Participants published at 79 FR 5330 on January 31, 2014, effective December 13, 2022. On and after December 13, 2022, the remaining pilot program participants shall no longer report EEI through the AEI pilot program and instead shall report EEI to the Automated Export System in accordance with the Foreign Trade Regulations at 15 CFR 30.4.

FOR FURTHER INFORMATION CONTACT: Kiesha Downs, Chief, Trade Regulations Branch, Foreign Trade Division, U.S. Census Bureau, Washington, DC 20233-6010, by phone (301) 763-7079, or by email kiesha.downs@census.gov.

SUPPLEMENTARY INFORMATION:

Background

The Census Bureau is responsible for collecting, compiling, and publishing trade statistics for the United States under the provisions of Title 13, United States Code (U.S.C.), Chapter 9, Section 301. The Automated Export System (AES) is the primary instrument used for collecting export trade data. The Census Bureau collects Electronic Export Information (EEI) through the AES, the electronic equivalent of the Shipper's Export Declaration (SED). The EEI is reported pursuant to the Foreign Trade Regulations, title 15, Code of Federal Regulations (CFR), part 30. The EEI consists of the data elements set forth in 15 CFR 30.6 for an export shipment and includes information such as the exporter's identifying information and detailed information concerning the exported product. Other agencies use the EEI for the purpose of enforcing U.S. export laws and regulations. Prior to the implementation of the Advanced Export Information (AEI) pilot program, the Foreign Trade Regulations allowed two filing options: predeparture filing and postdeparture filing. The AEI pilot program was introduced as a voluntary program in which selected exporters agreed to submit a limited set of EEI in accordance with existing filing deadlines, followed by the full set of data elements submitted within five calendar days of the date of export.

The notification to announce implementation of the AEI pilot program and to solicit pilot program participants, which was published in the Federal Register on January 31, 2014 (79 FR 5330), attracted only seven pilot program participants. As of July 1, 2022, the number of pilot participants dropped to two. Due to low participation, the Census Bureau was unable to conduct sufficient analysis and evaluation of the pilot program. Therefore, the Census Bureau, in cooperation with the U.S. Customs and Border Protection (CBP), has decided to cancel the AEI pilot program, thus eliminating it as an AES filing option. Thus, on and after the effective date of the cancellation of the AEI pilot program, the two remaining pilot program participants shall no longer report EEI through the AEI pilot program, and instead shall report EEI to the AES in accordance with the predeparture and postdeparture filing options as described in the Foreign Trade Regulations, 15 CFR 30.4.

Robert L. Santos, Director, Census Bureau, approved the publication of this notification in the Federal Register.

Dated: September 30, 2022.
Shannon Wink,
Program Analyst, Policy Coordination Office, U.S. Census Bureau.

[FR Doc. 2022-21748 Filed 10-13-22; 8:45 am]

BILLING CODE 3510-07-P